FEDERAL FINANCIAL INSTITUTIONS EXAMINATION COUNCIL

[Docket No. AS12-07]

Appraisal Subcommittee (ASC); ASC Rules of Operation; Amended

AGENCY: Appraisal Subcommittee of the Federal Financial Institutions Examination Council.

ACTION: Notice of amendment to the ASC Rules of Operation by vote of the ASC at its April 11, 2012 meeting.

SUMMARY: The ASC of the Federal Financial Institutions Examination Council (FFIEC) amended the following sections of the ASC Rules of Operation:

1. Section 3.04.a to provide for selection of a Vice Chairperson by ASC members with the Vice Chairperson's term of office running concurrently with the Chairperson's term;

2. Section 1.02(8) to define “Vice Chairperson” consistent with section 3.04.a; and

3. As a technical correction, Section 1.02(3) to remove the reference to the Office of Thrift Supervision (which became part of the Office of the Comptroller of the Currency July 21, 2011).

4. The definition of “member agency” footnotes the amendment to section 1011 of the Federal Financial Institutions Examination Council Act by the Dodd-Frank Act to include designees of the heads of the Bureau of Consumer Financial Protection and the Federal Housing Finance Agency.

The ASC Rules of Operation serve as corporate bylaws outlining the ASC's purpose, functions, authority, organization and operation.

SUPPLEMENTARY INFORMATION: The ASC was established by Section 1102 (12 U.S.C. 3310) of Title XI of the Financial Institutions Reform, Recovery, and Enforcement Act of 1989 (Title XI). The Dodd-Frank Wall Street Reform and Consumer Protection Act of 2010 amended numerous provisions in Title XI. The ASC Rules of Operation serve as corporate bylaws outlining the ASC's purpose, functions, authority, organization and operation.

DATES: Effective Date: Immediately.

FOR FURTHER INFORMATION CONTACT: James R. Park, Executive Director, at (202) 595-7575, or Alice M. Ritter, General Counsel, at (202) 595-7577, via Internet email at jim@asc.gov and alice@asc.gov, respectively, or by U.S. Mail at Appraisal Subcommittee, 1401 H Street NW., Suite 760, Washington, DC 20005.

* * * * *

By the Appraisal Subcommittee.
Dated: April 23, 2012.
Peter Gillispie,
Chairman.

[FR Doc. 2012-10129 Filed 4-26-12; 8:45 am]

BILLING CODE 6700-01-P